SECURITIES AND EXCHANGE COMMISSION

[File No. 500-1]

MaxLife Fund Corp.; Order of Suspension of Trading

April 8, 2011.

It appears to the Securities and Exchange Commission that there is a lack of current and accurate information concerning the securities of MaxLife Fund Corp. (“MaxLife”) because of questions that have arisen concerning representations made by MaxLife, the control of its stock, its market price, and trading in the stock. MaxLife trades on the OTCQB Market operated by the OTC Markets Group Inc. under the symbol MXFD.

The Commission is of the opinion that the public interest and the protection of investors require a suspension of trading in the securities of the company listed above.

Therefore, it is ordered, pursuant to Section 12(k) of the Securities Exchange Act of 1934, that trading in the securities of the company listed above is suspended for the period from 9:30 a.m. EDT, April 8, 2011, through 11:59 p.m. EDT, on April 21, 2011.

By the Commission.
Jill M. Peterson,
Assistant Secretary.

[FR Doc. 2011-8811 Filed 4-8-11; 11:15 am]

BILLING CODE 8011-01-P